DEPARTMENT OF COMMERCE

International Trade Administration

[A-307-815]

Notice of Final Determination of Sales at Less Than Fair Value: Certain Cold-Rolled Carbon-Quality Steel Flat Products From Venezuela

AGENCY: Import Administration, International Trade Administration, Department of Commerce.

ACTION: Notice of final determination of antidumping duty investigation.

EFFECTIVE DATE: April 6, 2000.

FOR FURTHER INFORMATION CONTACT: Maureen McPhillips or Linda Ludwig, Import Administration, International Trade Administration, U.S. Department of Commerce, 14th Street and Constitution Avenue, NW., Washington, DC 20230; telephone: (202) 482-0193 or (202) 482-3833, respectively.

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce (the Department) regulations are to the regulations at 19 CFR part 351 (April 1999).

Final Determination

We determine that certain cold-rolled carbon-quality steel flat products from Venezuela are being sold in the United States at less than fair value (LTFV), as provided in section 735 of the Act. The estimated margins are shown in the Suspension of Liquidation section of this notice.

Case History

The preliminary determination in this investigation was published November 15, 1999. See Notice of Preliminary Determination of Sales at Less Than Fair Value: Certain Cold-Rolled Carbon-Quality Steel Flat Products from Venezuela, 64 FR 61826 (Nov. 15, 1999) (Preliminary Determination). On January 4, 2000, the petitioners, Bethlehem Steel Corporation, Gulf States Steel, Inc., Ispat Inland Steel, Inc., LTV Steel Company, Inc., National Steel Corporation, Steel Dynamics, Inc., U.S. Steel Group, a unit of USX Corporation, United Steelworkers of America, and Weirton Steel Corporation, and the respondent, Siderurgica del Orinoco, C.V. (Sidor), submitted case briefs. On January 11, 2000, we received a rebuttal brief from petitioners. Sidor requested a postponement of the final determination to 135 days after publication of the preliminary determination and an extension of the provisional measures to no more than six months, pursuant to 19 CFR 351.210(b)(2)(ii) and 351.210(e)(2). See Postponement of Final Determination of Certain Cold-Rolled Flat-Rolled Carbon-Quality Steel Products from Venezuela, 65 FR 5499 (February 4, 2000).

Period of Investigation

The period of investigation (POI) is April 1, 1998 though March 31, 1999.

Analysis of Comments Received

All issues raised in the case and rebuttal briefs by parties to this investigation are addressed in the Issues and Decision Memorandum (Decision Memorandum) from Joseph A. Spetrini to Robert LaRussa, Assistant Secretary for Import Administration, dated March 29, 2000, which is hereby adopted by this notice. A list of the issues which parties have raised and to which we have responded, all of which are in the Decision Memorandum, is attached to this notice as an Appendix. Parties can find a complete discussion of all issues raised in this investigation and the corresponding recommendations in this public memorandum which is on file in the Central Records Unit, room B-099 of the main Department building. In addition, a complete version of the Decision Memorandum can be accessed directly on the Web at www.ita.doc.gov/import_admin/records/frn/. The paper copy and the electronic version of the Decision Memorandum are identical in content.

Scope of Investigation

For a description of the scope of this investigation, see the “Scope of Investigation” section of the Decision Memorandum, which is on file in B-099 and available on the Web at www.ita.doc.gov/import_admin/records/frn/.

Changes Since the Preliminary Determination

Based on our analysis of comments received, we have not made any changes in the margin calculations from the Preliminary Determination.

The “All Others” Rate

The foreign manufacturer/exporter in this investigation is being assigned a dumping margin on the basis of adverse facts available. Section 735(c)(5) of the Act provides that, where the dumping margins established for all exporters and producers individually investigated are determined entirely under section 776 of the Act, the Department may use any reasonable method to establish the estimated “all others” rate for exporters and producers not individually investigated. Therefore, consistent with the Statement of Administrative Action (“SAA”) at 873, we are using an alternative method to establish the estimated all others rate. In the Preliminary Determination, as an alternative, we based the all others rate on a simple average of the margins in the petition. We received no comments on this issue, and therefore, continue to use the simple average of the margins in the petition as the basis for the final determination. As a result, the all others rate is 42.93 percent.

Continuation of Suspension of Liquidation

In accordance with section 735(c)(1)(B) of the Act, we are directing the Customs Service to continue to suspend liquidation of all entries of cold-rolled carbon-quality steel flat products produced and/or exported from Venezuela by Sidor, that are entered, or withdrawn from warehouse, for consumption on or after August 17, 1999 (90 days prior to the date of publication of the preliminary determination in the Federal Register). In addition, we will direct the Customs Service to continue to suspend liquidation of cold-rolled steel products exported from Venezuela by companies other than Sidor that are entered, or withdrawn from warehouse, for consumption on or after November 15, 1999, the date of publication of our preliminary determination in the Federal Register. We will instruct the Customs Service to require a cash deposit or bond equal to the percentage margins, as indicated below. These suspension-of-liquidation instructions will remain in effect until further notice. The dumping margins are as follows:

Exporter/manufacturer | Margin (percent)
Sidor | 56.37
All Others | 42.93

The all others rate, which we derived from the average of the margins calculated in the petition, applies to all entries of subject merchandise other than those exported by the named respondent.

ITC Notification

In accordance with section 735(c)(1)(B) of the Act, we have notified the International Trade Commission (ITC) of our determination. Because our final determination is affirmative, the ITC will, within 45 days, determine whether these imports are materially injuring, or threaten material injury to, the U.S. industry. If the ITC determines that material injury, or threat of material injury does not exist, the proceeding will be terminated and all securities posted will be refunded or canceled. If the ITC determines that such injury does exist, the Department will issue an antidumping duty order directing Customs' officials to assess antidumping duties on all imports of the subject merchandise entered, or withdrawn from warehouse, for consumption on or after the effective date of the suspension of liquidation.

This determination is issued and published in accordance with sections 735(d) and 777(i)(1) of the Act.

Dated: March 29, 2000.
Joseph A. Spetrini,
Acting Assistant Secretary for Import Administration.

Appendix—Issues in Decision Memorandum

Comments and Responses

Use of Facts Available

Critical Circumstances

[FR Doc. 00-8559 Filed 4-5-00; 8:45 am]

BILLING CODE 3510-DS-P